OFFICE OF THE SPECIAL TRUSTEE FOR AMERICAN INDIANS

[FR00N-0001]

Agency Information Collection Activities: Submission for OMB Review; Comment Request

AGENCY: Office of the Special Trustee for American Indians.

ACTION: Notice of Requests for Extension of Information Collection Approvals.

SUMMARY: In compliance with the Paperwork Reduction Act of 1995 (44 U.S.C. 3501 et seq.), the Office of the Special Trustee for American Indians (OST) announces the following Information Collection Requests (ICRs) have been submitted to the Office of Management and Budget (OMB) for review and approval: Application for Technical Assistance, OMB No. 1035-0001; Application for Technical Assistance to Withdraw Tribal Funds from Trust Status (General), OMB No. 1035-0002; and Application to Withdraw Tribal Funds from Trust Status, OMB No. 1035-0003. The ICRs describe the nature of the information collections and their expected burdens and costs; where appropriate, they include the actual data collection instruments.

DATES: Comments must be submitted on or before May 11, 2000.

Request for Comments: You may send or deliver comments to the addressee in the ADDRESSES section below. Please put the document number on your comments found in brackets in the heading of this notice. OMB has up to 60 days to approve or disapprove the information collection but may respond after 30 days; therefore, public comments should be submitted to OMB within 30 days to assure maximum consideration. We solicit your specific comments as to:

(1) Whether the proposed information collections are necessary for the proper performance of our agency's functions, including whether the information has practical usefulness.

(2) The accuracy of our burden estimates of the collections of information.

(3) How to enhance the quality, utility, and clarity of the information to be collected.

(4) How to minimize the burden of the collections of information on those who are to respond, including the use of appropriate automated, electronic, mechanical, or other forms of information technology.

FOR FURTHER INFORMATION CONTACT: Sarah Yepa at OST by phone at (505) 248-5711, by email at sarah_yepa@ost.doi.gov.

SUPPLEMENTARY INFORMATION: Titles: Application for Technical Assistance, OMB No. 1035-0001; Application for Technical Assistance to Withdraw Tribal Funds from Trust Status (General), OMB No. 1035-0002; and Application to Withdraw Tribal Funds from Trust Status, OMB No. 1035-0003. The requests to OMB are to extend these currently approved collections for three years.

Abstract: The American Indian Trust Fund Management Reform Act of 1994 (the Reform Act) allows tribes to withdraw their money held in trust by the U.S. Government. To withdraw their money, tribes must first submit an application and get approval from the Secretary of the Interior. The Reform Act also allows tribes to apply for technical assistance and financial assistance to complete the application. Section 1200.13 tells tribes how to submit an application to withdraw their money and Section 1200.14 tells them how they can apply for technical assistance and financial assistance. These information collections allow us to collect documents associated with tribes withdrawing their funds held in trust and applying for technical assistance to withdraw funds under 25 CFR 1200. Responses to these collections of information are required to obtain or retain a benefit. A Federal Register notice required under 5 CFR 1320.8(d), soliciting comments on proposed renewal of these collections of information, was published on 12/21/99 (FR99N-0001); no comments were received.

Burden Statement: The current information collection authorizations expire March 31, 2000. A Federal agency may not conduct or sponsor, and a person is not required to respond to, a collection of information unless it displays a currently valid OMB control number. The application forms and burden estimates are:

1. OMB No. 1035-0001, OST Form No. SF-424A, Application for Technical Assistance to Withdraw Tribal Funds from Trust Status (Specific Budget):

Respondents: American Indian Tribes

Annual Respondents and Responses—12

Estimated Burden Per Response—39 hours

Estimated Annual Burden—468 hours

2. OMB No. 1035-0002, OST Form No. SF-424, Application for Technical Assistance to Withdraw Tribal Funds from Trust Status (General):

Respondents: American Indian Tribes

Annual Respondents and Responses—12

Estimated Burden Per Response—13 hours

Estimated Annual Burden—156 hours

3. OMB No. 1035-0003, Application to Withdraw Tribal Funds from Trust Status

Respondents: American Indian Tribes

Annual Respondents and Responses—12

Estimated Burden Per Response—342 hours

Estimated Annual Burden—4104 hours

Addresses: Please address your comments to: Office of Information and Regulatory Affairs, Office of Management and Budget, Attention: Desk Officer for the Interior Department, 725 17th Street, NW, Washington, DC 20503.

Please also send a copy of your comments to: Ms. Sarah Yepa, Office of Trust Funds Management, Office of the Special Trustee for American Indians, 505 Marquette, N.W., Suite 1000, Albuquerque, NM 87102.

Dated: March 30, 2000.
Donna Erwin,
Director, Office of Trust Funds Management.

[FR Doc. 00-8868 Filed 4-10-00; 8:45 am]

BILLING CODE 4310-2W-P